Title 3—

The President

Proclamation 7382 of November 30, 2000

World AIDS Day, 2000

By the President of the United States of America

A Proclamation

As the global community observes the 13th annual World AIDS Day, we remember with sorrow our friends, loved ones, neighbors, and colleagues who have lost their lives to AIDS, and we reaffirm our shared commitment to carry on the fight until our battle against this devastating disease is won.

We can be proud of our efforts over the past 8 years. My Administration has worked aggressively to increase funding for AIDS research; to find better treatments, a vaccine, and a cure; to enhance HIV prevention efforts; and to help ensure that those living with HIV and AIDS receive the health care they need. Federal funding for such activities has doubled on the national front and tripled internationally, reaching nearly $11 billion last year alone, and I recently named a Presidential Envoy for AIDS Cooperation.

Building on this commitment, last month I signed into law the Ryan White CARE Act Amendments of 2000, improving the Federal Government's most comprehensive program for providing services to Americans living with HIV/AIDS. Our investment is producing results and, thanks to new treatments, many people with AIDS are living longer and experiencing a better quality of life than ever before.

But our battle is far from over. Last year, 3 million people died from HIV/AIDS—the highest global total reported since the pandemic began. Current estimates indicate that more than 50 million people have been infected with HIV since the virus was first identified more than 15 years ago, and some 21.8 million people have died from HIV/AIDS. The number of children orphaned as a result of HIV/AIDS is estimated to be more than 13.2 million.

Because the spread of HIV has reached catastrophic proportions in many areas of our global community, AIDS has become a national and international security threat. The United States is working hard to develop partnerships with other nations and to mobilize a greatly expanded global response to address HIV/AIDS through our Leadership and Investment in Fighting an Epidemic Initiative. And this week, we will host a White House Summit of Religious Leaders to underscore the important role the world's faith communities play in preventing the spread of HIV and in caring for those affected by HIV. Many care and treatment programs around the world are operated by religious-based organizations, and often these groups provide the only available source of care. The summit will highlight successful efforts and raise awareness of our moral obligations in addressing HIV and AIDS.

Our goals are clear, and our resolve is firm. Working with our partners at home and abroad, we will triumph over the tragedy of HIV/AIDS and ensure a bright, healthy future for our children.

NOW, THEREFORE, I, WILLIAM J. CLINTON, President of the United States of America, by virtue of the authority vested in me by the Constitution and laws of the United States, do hereby proclaim December 1, 2000, as World AIDS Day. I invite the Governors of the States and the Commonwealth of Puerto Rico, officials of the other territories subject to the jurisdiction of the United States, and the American people to join me in reaffirming our commitment to defeating HIV and AIDS. I encourage every American to participate in appropriate commemorative programs and ceremonies in workplaces, houses of worship, and other community centers, to reach out to protect and educate our people, and to provide hope and help to all who are living with HIV and AIDS.

IN WITNESS WHEREOF, I have hereunto set my hand this thirtieth day of November, in the year of our Lord two thousand, and of the Independence of the United States of America the two hundred and twenty-fifth.

wj

[FR Doc. 00-31011

Filed 1-1-00; 11:09 am]

Billing code 3195-01-P